SMALL BUSINESS ADMINISTRATION

Military Reservist Economic Injury Disaster Loans; Interest Rate for Second Quarter FY 2013

In accordance with the Code of Federal Regulations 13—Business Credit and Assistance § 123.512, the following interest rate is effective for Military Reservist Economic Injury Disaster Loans approved on or after January 18, 2013.

Military Reservist Loan Program—4.000%

Dated: January 18, 2013.
James E. Rivera,
Associate Administrator for Disaster Assistance.

[FR Doc. 2013-01576 Filed 1-24-13; 8:45 am]

BILLING CODE P